ENVIRONMENTAL PROTECTION AGENCY

40 CFR Part 62

[AL52-200014; FRL-6708-6]

Approval and Promulgation of State Plans for Designated Facilities and Pollutants: Alabama; Correction

AGENCY: Environmental Protection Agency.

ACTION: Direct final rule; correction.

SUMMARY: The United States Environmental Protection Agency (EPA) published in the Federal Register on April 10, 2000, a document approving the section 111(d) Plan submitted by the Alabama Department of Environmental Management for the State of Alabama on April 20, 1999. This plan enables the State of Alabama to implement and enforce the Emissions Guidelines (EG) for existing Hospital/Medical/Infectious Waste Incinerator (HMIWI) units. In the April 10, 2000, rule, EPA inadvertently referenced an incorrect citation to Alabama's state implementation plan in the Code of Federal Regulations. EPA is correcting the citation with this document.

EFFECTIVE DATE: This correction is effective on June 9, 2000.

FOR FURTHER INFORMATION CONTACT: Kimberly Bingham at (404) 562-9038, Bingham.Kimberly@epa.gov or Scott Davis at (404) 562-9127, Davis.ScottR@epa.gov.

SUPPLEMENTARY INFORMATION: Throughout this document wherever “we,” or “our” are used we mean EPA. Our April 10, 2000, (65 FR 18909-18911) rulemaking indicated that we approved the section 111d plan for the State of Alabama. This plan enables the State of Alabama to implement and enforce the Emissions Guidelines (EG) for existing Hospital/Medical/Infectious Waste Incinerator (HMIWI) units. In that document we inadvertently codified the revisions into 40 CFR 62.100. Our April 10, 2000, document indicated that we were removing 40 CFR 62.104 and renaming the section. In that document we should not have removed 40 CFR 62.104, but instead added a new section 40 CFR 62.105.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Administrative Requirements

Under Executive Order 12866 (58 FR 51735, October 4, 1993), this action is not a “significant regulatory action” and is therefore not subject to review by the Office of Management and Budget. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of June 9, 2000. EPA will submit a report containing this rule and other required information to the U.S. Senate, the U.S. House of Representatives, and the Comptroller General of the United States prior to publication of the rule in the Federal Register. This correction to the identification of plan for Missouri is not a “major rule” as defined by 5 U.S.C. 804(2).

Dated: May 19, 2000.
A. Stanley Meiburg,
Acting Regional Administrator, Region 4.

For the reasons stated in the preamble, in FR Doc. 00-8142 published at 65 FR 18909 make the following corrections:

PART 62—[CORRECTED]

1. On page 18911, in the third column, in amendatory instruction 3, correct “62.104” to read “62.105.”

2. On page 18911, in the third column, under the title Air Emissions From Hospital/Medical/Infectious Waste Incinerators, correctly designate § 62.104 as § 62.105.

[FR Doc. 00-13846 Filed 6-6-00; 8:45 am]

BILLING CODE 6560-50-P